DEPARTMENT OF LABOR

Employment and Training Administration

[TA-W-53,008]

Martens Manufacturing, LLC, Kingsford, MI; Notice of Negative Determination on Reconsideration

On December 4, 2003, the Department issued a Notice of Affirmative Determination Regarding Application for Reconsideration for the workers and former workers of the subject firm. The notice was published in the Federal Register on December 29, 2003 (68 FR 74976).

The Department initially denied workers of Martens Manufacturing, LLC, Kingsford, Michigan because the investigation revealed no sales or employment declines and no increased subject company imports during the period of employment decline at the subject company.

The petitioners allege in the request for reconsideration that the subject company's customer increased import purchases during the period of decline at the subject company.

The Department conducted a survey of the subject company's major customers regarding import purchases of cabinet components during the relevant time periods. The customers accounted for the vast majority of the company's sales. The survey revealed no imports during the relevant time period.

Conclusion

After reconsideration, I affirm the original notice of negative determination of eligibility to apply for worker adjustment assistance for workers and former workers of Martens Manufacturing, LLC, Kingsford, Michigan.

Signed at Washington, DC, this 27th day of February 2004
Elliott S. Kushner,
Certifying Officer, Division of Trade Adjustment Assistance.

[FR Doc. 04-5614 Filed 3-11-04; 8:45 am]

BILLING CODE 4510-30-P